DEPARTMENT OF DEFENSE

Department of the Army

Notice of Availability (NOA) of the Final Fort Carson Transformation Environmental Impact Statement (EIS), Clean Air Act General Conformity Determination, and Evaluation of Environmental Effects of Renewed Land and Mineral Withdrawal Under Public Law 104-201, Colorado

AGENCY: Department of the Army, Department of Defense.

ACTION: Notice of availability.

SUMMARY: The Army announces the availability of the Final Fort Carson Transformation EIS evaluating the environmental effects of implementing restationing actions of the Base Realignment and Closure (BRAC) 2005 and other Army transformation programs at the Fort Carson military installation near Colorado Springs, Colorado. The final EIS also documents the U.S. Army's evaluation of environmental effects of withdrawal of public land and mineral rights under Public Law 104-201.

DATES: The waiting period for the Final EIS will end 30 days after publication of an NOA in the Federal Register by the U.S. Environmental Protection Agency.

ADDRESSES: To obtain a copy of the FEIS contact the Fort Carson National Environmental Policy Act (NEPAP) Coordinator, Directorate of Environmental Compliance and Management, 1638 Elwell Street, Building 6236, Fort Carson, Colorado 80913-4000; e-mail: carsdecamnepa@conus.army.mil.

FOR FURTHER INFORMATION CONTACT: Fort Carson NEPA Coordinator at (719) 526-4666 or fax (719) 526-1705.

SUPPLEMENTARY INFORMATION: The Final Fort Carson Transformation EIS evaluates the environmental and socioeconomic effects of implementing three Army transformation programs at Fort Carson: BRAC 2005, Integrated Global Presence and Basing Strategy (also known as Global Defense Posture Realignment), and the Army Modular Force initiative. These programs are part of the overall Army restructuring and are needed to prepare the Army's combat forces for deployment around the world.

The Proposed Action evaluated in the Final Fort Carson Transformation EIS is the Army's preferred alternative to implement the three transformational programs. The Proposed Action includes three primary components: (1) Changes in force structure resulting in a net gain of military units and personnel; (2) facility construction, renovation, and demolition; and (3) increased frequency of live-fire and maneuver training. The EIS also documents the compliance of the Proposed Action with the General Conformity Rule requirements of the Clean Air Act. In addition, the Final EIS evaluates the environmental effects of renewal of the current withdrawal and reservation of 3,133.02 acres of public land and 11,415.16 acres of federally owned minerals at Fort Carson (as required by Section 2908 of Public Law 104-201).

Under the Proposed Action alternative, the number of troops at Fort Carson will increase by approximately 8,500 Soldiers. Military dependent, civilian, and contractor worker populations supported by Fort Carson also will increase. In total, Soldiers, their dependents, and support personnel will grow to approximately 59,700 by 2011, an increase of approximately 21,300 persons (60 percent) over the implementation period.

The Army will construct 25 projects, primarily in the Cantonment area. In addition, facilities and infrastructure no longer needed to support the Proposed Action alternative will be demolished; facilities will be relocated to support new construction; and existing facilities and infrastructure will be renovated to support the new population and training activities.

The Proposed Action alternative will provide for increased frequency of training for existing and new units stationed at Fort Carson. The installation's downrange area will be used more frequently for individual and crew live fire, maneuver, and combined live fire and maneuver training. Fort Carson will continue to implement its existing land and environmental management programs to balance training requirements and land sustainability. Large area maneuver training for Fort Carson's troops will continue to occur at the Pinon Canyon Maneuver Site, which is Fort Carson's maneuver-training area located approximately 150 miles southeast of Fort Carson.

The Final EIS also evaluated the No Action alternative, which would result in not implementing the Proposed Action troop restationing; construction, renovation, and demolition projections; and increased frequency of training. The No Action alternative is not feasible because restationing has been directed by BRAC 2005. It was included in the Final EIS, as required by the Council on Environmental Quality and the Army's NEPA implementing regulations, to provide a benchmark by which to compare the magnitude of environmental effects of the Proposed Action.

Permanent restationing alternatives, therefore, were not considered in the Final EIS in accordance with the BRAC Act of 1990, which does not permit decisions on restationing troops to alternate installations to be revisited in NEPA documents. Other alternatives considered by the Army, but determined not to be feasible, included training troops at other locales, acquiring additional land for training, or varying training schedules to account for operational deployments. These alternatives were determined not to be reasonable because they either did not meet the purpose and need of the action or unreasonably restricted the Army's ability to react to changing conditions.

The Proposed Action has the potential to result in adverse effects to land use, air quality, geology and soils, water resources, biological resources, cultural resources, transportation, utilities, and hazardous and toxic materials. It could also result in cumulative environmental effects. Beneficial effects of the Proposed Action will result for socioeconomic resources. With implementation of mitigation measures and best management practices, significant adverse environmental impacts will not occur.

An electronic version of the Final EIS can be viewed or downloaded online at http://www.hqda.army.mil/acsim/brac/nepa_eis_docs.htm. Copies can be requested from the Fort Carson NEPA Coordinator or viewed at local libraries.

Dated: June 13, 2007.
Addison D. Davis, IV
Deputy Assistant Secretary of the Army (Environmental, Safety and Occupational Health).

[FR Doc. 07-3025 Filed 6-19-07; 8:45 am]

BILLING CODE 3710-08-M